DEPARTMENT OF HEALTH AND HUMAN SERVICES

Centers for Disease Control and Prevention

Disease, Disability, and Injury Prevention and Control Special Emphasis Panel (SEP): Thrombosis and Hemostasis Centers Research and Prevention Network, Request for Applications (RFA) DD07-004 and RFA DD07-005

In accordance with Section 10(a)(2) of the Federal Advisory Committee Act (Pub. L. 92-463), the Centers for Disease Control and Prevention (CDC) announces the following meeting of the aforementioned SEP:

Time and Date: 12 p.m.-4 p.m., May 3, 2007 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of scientific merit of grant applications received in response to RFAs DD07-004 and DD07-005, “Thrombosis and Hemostasis Centers Research and Prevention Network.”

For Further Information Contact: Christine Morrison, Ph.D., Scientific Review Administrator, Centers for Disease Control and Prevention, 1600 Clifton Road NE., Mailstop D72, Atlanta, GA 30333, Telephone 404.639.3098.

The Director, Management Analysis and Services Office, has been delegated the authority to sign Federal Register notices pertaining to announcements of meetings and other committee management activities, for both CDC and the Agency for Toxic Substances and Disease Registry.

Elaine L. Baker,
Acting Director, Management Analysis and Services Office, Centers for Disease Control and Prevention.

[FR Doc. E7-4533 Filed 3-12-07; 8:45 am]

BILLING CODE 4163-18-P